DEPARTMENT OF COMMERCE

International Trade Administration

Initiation of Antidumping and Countervailing Duty Administrative Reviews

Correction

In Notice document C1 2021-19190, appearing on page 55572, in the Issue of Wednesday, October 6, 2021, make the following correction:

On page 55572, in the second column, in the standard document heading, the sub-agency reading “Internal Trade Administration” should read “International Trade Administration”.

[FR Doc. C2-2021-19190 Filed 10-18-21; 8:45 am]

BILLING CODE 0099-10-D